DEPARTMENT OF DEFENSE

GENERAL SERVICES ADMINISTRATION

NATIONAL AERONAUTICS AND SPACE ADMINISTRATION

[OMB Control No. 9000-0074; Docket 2016-0053; Sequence 19]

Submission for OMB Review; Contract Funding—Limitation of Costs/Funds

AGENCY: Department of Defense (DOD), General Services Administration (GSA), and National Aeronautics and Space Administration (NASA).

ACTION: Notice of request for extension of an existing OMB clearance.

SUMMARY: Under the provisions of the Paperwork Reduction Act, the Regulatory Secretariat Division will be submitting to the Office of Management and Budget (OMB) a request to review and approve an extension of a previously approved information collection requirement concerning limitation of costs/funds.

DATES: Submit comments on or before August 24, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 9000-0074, Contract Funding—Limitation of Costs/Funds”. Follow the instructions provided at the “Submit a Comment” screen. Please include your name, company name (if any), and “Information Collection 9000-0074, Contract Funding—Limitation of Costs/Funds” on your attached document.

• Mail: General Services Administration, Regulatory Secretariat Division (MVCB), 1800 F Street NW., Washington, DC 20405. ATTN: Ms. Flowers/IC 9000-0074, Contract Funding—Limitation of Costs/Funds.

Instructions: Please submit comments only and cite Information Collection 9000-0074, Contract Funding—Limitation of Costs/Funds, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Kathlyn Hopkiins, Procurement Analyst, Office of Governmentwide Acquisition Policy, GSA 202-969-7226 or email kathlyn.hopkins@gsa.gov.

SUPPLEMENTARY INFORMATION:

A. Purpose

Firms performing under incrementally funded, cost-reimbursement Federal contracts are required to notify the contracting officer in writing whenever they have reason to believe—

(1) The costs the contractors expect to incur under the contracts in the next 60 days, when added to all costs previously incurred, will exceed 75 percent of the estimated cost of the contracts; or (2) The total cost for the performance of the contracts will be greater or substantially less than estimated.

As a part of the notification, the contractors must provide a revised estimate of total cost. The frequency of this collection of information is variable, contingent upon both funding and spending patterns.

A notice was published in the Federal Register at 81 FR 21873 on April 13, 2016. No comments were received. However, three changes were made to the annual reporting burden estimates conveyed in the preliminary 60-day notice. First, the initial estimate included data on certain fixed-price and cost-sharing contracts, subsequently deemed not directly impacted by the FAR clauses 52.232-20 and 52.232-22; those data points have been removed from the estimate for this collection.

Accordingly, the number of contract actions has been reduced. Secondly, the number of responses per respondent has been reassessed at one per year in lieu of five; this is consistent with updated data, based on consultation with subject matter experts within the Government. Third, the estimated time to produce each funding letter was reduced from ½ hour to ⅓ hour, as office software applications continue to improve, making basic computations, word processing, and communication increasingly efficient.

B. Annual Reporting Burden

Respondents: 123,392.

Responses per Respondent: 1.

Total Annual Responses: 123,392.

Hours per Response: 0.33.

Total Burden Hours: 40,719.

Obtaining Copies of Proposals: Requesters may obtain a copy of the information collection documents from the General Services Administration, Regulatory Secretariat Division (MVCB), 1800 F Street NW., Washington, DC 20405, telephone 202-501-4755. Please cite OMB Control No. 9000-0074, Contract Funding—Limitation of Costs/Funds, in all correspondence.

William Clark,
Director, Office of Governmentwide Acquisition Policy, Office of Acquisition Policy, Office of Governmentwide Policy.

[FR Doc. 2016-17479 Filed 7-22-16; 8:45 am]

BILLING CODE 6820-EP-P